DEPARTMENT OF DEFENSE

Office of the Secretary

Submission for OMB Review; Comment Request

ACTION: Notice.

SUMMARY: This notice is being republished to proved an additional thirty (30) day comment period. The original notice was published on September 11, 2001 (66 FR 47176). Changes to Page 2 of the DLA Form 1822 have been submitted to the Office of Management and Budget. The Department of Defense has submitted to OMB for clearance, the following proposal for collection of information under the provisions of the Paperwork Reduction Act (44 U.S.C. Chapter 35). The Office of Management and Budget has approved this information collection requirement for use through September 30, 2001.

DATES: Consideration will be given to all comments received by October 19, 2001.

Title, Form Number, and OMB Number: End-Use Certificate; DLA Form 1822; OMB Number 0704-0382.

Type of Request: Extension.

Number of Respondents: 40,000.

Response per Respondent: 1.

Annual Responses: 40,000.

Average Burden per Response: 20 minutes.

Annual Burden Hours: 13,200.

Needs and Uses: All individuals wishing to acquire government property identified as Munitions List Items (MLI) or Commerce Control List Items (CCLI) must complete this form each time they enter into a transaction. It is used to clear recipients to ensure their eligibility to conduct business with the Government: that they are not debarred bidders; Specially Designated National (SDN) or Blocked Persons; have not violated U.S. export laws; will not divert the property to denied/sanctioned countries, unauthorized destinations or sell to debarred/Bidder Experience List firms or individuals. The End-Use Certificate (EUC) informs the recipients that when this property is to be exported, they must comply with the International Traffic in Arms Regulations (ITAR), 22 CFR parts 120 et seq.; Export Administration Regulations (EAR), 15 CFR parts 730 et seq.; Office of Foreign Asset Controls (OFAC), 31 CFR 500 et seq.; and the United States Customs Service rules and regulation. The form is available electronically.

Affected Public: Individuals or Households; Business or Other For-Profit; Not-For-Profit Institutions.

Frequency: On occasion.

Respondent's Obligation: Required to obtain or retain benefits.

OMB Desk Officer: Mr. Edward C. Springer. Written comments and recommendations on the proposed information collection should be sent to Mr. Springer at the Office of Management and Budget, Desk Officer for DoD, Room 10236, New Executive Office Building, Washington, DC 20503.

DoD Clearance Officer: Mr. Robert Cushing. Written requests for copies of the information collection proposal should be sent to Mr. Cushing, WHS/DIOR, 1215 Jefferson Davis Highway, Suite 1204, Arlington, VA 22202-4302.

Dated: September 13, 2001.
Patricia L. Toppings,
Alternate OSD Federal Register Liaison Officer, Department of Defense.

[FR Doc. 01-23283 Filed 9-18-01; 8:45 am]

BILLING CODE 5001-08-M